SMALL BUSINESS ADMINISTRATION

[Declaration of Disaster #3619]

Commonwealth of Virginia; (Amendment #2)

In accordance with a notice received from the Department of Homeland Security—Federal Emergency Management Agency—effective September 19, 2004, the above numbered declaration is hereby amended to include King William, New Kent, and Charles City Counties as disaster areas due to damages caused by Tropical Depression Gaston occurring on August 30, 2004, and continuing through September 8, 2004.

In addition, applications for economic injury loans from small businesses located in the contiguous counties of James City, and King and Queen in the Commonwealth of Virginia may be filed until the specified date at the previously designated location. All other counties contiguous to the above named primary counties have previously been declared.

All other information remains the same, i.e., the deadline for filing applications for physical damage is November 2, 2004 and for economic injury the deadline is June 3, 2005.

(Catalog of Federal Domestic Assistance Program Nos. 59002 and 59008.)
Dated: September 22, 2004.
Herbert L. Mitchell,
Associate Administrator for Disaster Assistance.

[FR Doc. 04-21897 Filed 9-29-04; 8:45 am]

BILLING CODE 8025-01-P